FEDERAL RETIREMENT THRIFT INVESTMENT BOARD

Senior Executive Service Performance Review Board

AGENCY: Federal Retirement Thrift Investment Board.

ACTION: Notice.

SUMMARY: This notice announces the appointment of the members of the Senior Executive Service Performance Review Boards for the Federal Retirement Thrift Investment Board. The purpose of the Performance Review Boards is to view and make recommendations concerning proposed performance appraisals, ratings, and bonuses, and other appropriate personnel actions for members of the Senior Executive Service.

DATES: This notice is effective November 5, 2013.

FOR FURTHER INFORMATION CONTACT: Kelly Powell, HR Specialist, at 202-942-1681.

SUPPLEMENTARY INFORMATION: Title 5, U.S. Code, 4314(c)(4), requires that the appointment of Performance Review Board members be published in the Federal Register before Board service commences. The following persons will serve on the Federal Retirement Thrift Investment Board's Performance Review Boards which will oversee the evaluation of the performance appraisals of the Senior Executive Service members of the Federal Retirement Thrift Investment Board: Tracey A. Ray, Kimberly Weaver, Mark Walther, Jayant Ahuja, Susan Crowder and Gisile Goethe.

James B. Petrick,
General Counsel, Federal Retirement Thrift Investment Board.

[FR Doc. 2013-26808 Filed 11-7-13; 8:45 am]

BILLING CODE 6760-01-P